DEPARTMENT OF HOMELAND SECURITY

Coast Guard

[USCG-2006-24258]

Environmental Assessment for Homeporting of Four National Security Cutters at Alameda, CA

AGENCY: Coast Guard, DHS.

ACTION: Notice; request for public comments.

SUMMARY: The Coast Guard announces its intent to prepare an Environmental Assessment (EA) for the homeporting of four new 418-foot National Security Cutters (NSCs) at Coast Guard Island (CGI) in Alameda, California, and requests public comments. Preparation of the EA is being conducted in accordance with the National Environmental Policy Act and its implementing regulations. The new NSCs will replace the four existing 30-year old 378-foot High Endurance Cutters (HECs) currently homeported at CGI, starting with one in 2007/2008 and continuing with one replacement per year until 2010/2011, under current plans.

DATES: Comments and related material must reach the Docket Management Facility on or before May 10, 2006.

ADDRESSES: You may submit comments identified by Coast Guard docket number USCG-2006-24258 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call LCDR Mike Woolard, Coast Guard, telephone 571-218-3382. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-24258) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five four digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

To continue to meet America's 21st century maritime threats and challenges, the United States Coast Guard (USCG) initiated the Integrated Deepwater System (IDS) Program, the largest and most innovative acquisition in the Coast Guard's history. The IDS will significantly contribute to the Coast Guard's maritime domain awareness, as well as the improved ability to intercept, engage, and deter those activities that pose a direct challenge/threat to U.S. sovereignty and security. IDS will provide the means to extend our layered maritime defenses from our ports and coastal areas to hundreds of miles out to sea.

The underlying need for the IDS is to provide upgraded, modern assets for the Coast Guard's Pacific Area (PACAREA) Command, in support of executing the wide range of Coast Guard missions in the Pacific area. PACAREA has operational responsibility for waters as far south as Central America and over 1,000 miles offshore. CGI is the critical facility that currently provides the support functions for meeting Coast Guard missions in the Pacific area. These missions are currently met with aging (Legacy) 378 ft cutters of the SECRETARY class whose end of economic service life is 2008.

Under the Coast Guard's Deepwater Program, the NSC will be the flagship of the new fleet of cutters. The sweeping modernization and new assets acquisitions of the Deepwater Program will bring much needed capability and capacity to the Coast Guard. When fully implemented, the interoperable Deepwater system will comprise three classes of new cutters and their associated small boats, a new fixed-wing manned aircraft fleet, a combination of new and upgraded helicopters, and both cutter-based and land-based unmanned air vehicles (UAVs). All of these highly capable assets are linked with Command, Control, Communications and Computers, Intelligence, Surveillance and Reconnaissance (C4ISR) systems, and are supported by an integrated logistics system. These new assets, which possess common systems and technologies, common operational concepts, and a common logistics base will give the Coast Guard a significantly improved ability to detect and identify all activities in the maritime arena, a capability known as “maritime domain awareness,” as well as the improved ability to intercept and engage those activities that pose a direct threat to U.S. sovereignty and security. The NSCs will be the flagships of the IDS, capable of meeting all maritime security mission needs and operating with a maximum range of 12,000 nautical miles and up to 60 days continuously without replenishment.

The existing base on CGI in Alameda, CA provides the shore support necessary to meet the logistical requirements of four large cutters. This existing support includes security considerations, easy access for Coast Guard personnel, administrative and support buildings and services, and required shore ties to service in-port cutters.

The Coast Guard plans to homeport four NSCs at CGI in Alameda, California. The four NSCs would replace, on a one-for-one basis, the four aging 378-foot High-Endurance Cutters (HECs) currently stationed in Alameda.

In addition to the proposed vessel homeporting, minor improvements to the existing waterfront pier and construction of a new 18,000 sq. ft. administration building would be required at the existing base on CGI in Alameda to provide adequate shore-side support. No other actions or projects are anticipated at this time to support this proposed homeporting plan.

The USCG is preparing an Environmental Assessment (EA) to comply with the National Environmental Policy Act (NEPA) of 1969 (section 102[2][c]) and its implementing regulations at 40 Code of Federal Regulations, part 1500, and other related environmental laws, regulations, and Executive Orders. The EA will evaluate the potential direct, indirect and cumulative impacts associated with the NSC homeporting plan. The EA will tier from the USCG's Programmatic Environmental Impact Statement for the IDS Program, completed in March of 2002.

Dated: March 22, 2006.
J.E. Mihelic,
Capt, USCG, Chief, Deepwater Transition Management Division, (G-DTM).

[FR Doc. E6-5205 Filed 4-7-06; 8:45 am]

BILLING CODE 4910-15-P